INTERNATIONAL TRADE COMMISSION

[Investigation No. 337-TA-1146]

Certain Taurine (2-Aminoethanesulfonic Acid), Methods of Production and Processes for Making the Same, and Products Containing the Same; Institution of Investigation; Correction

AGENCY: U.S. International Trade Commission.

ACTION: Correction of notice.

Correction is made to notice 84 FR 8110, which was published on March 6, 2019, Respondent JSW Enterprises, LLC d/b/a Nurtavative Ingredients address number and doing business as name are erroneously incorrect in the Notice. The name and address should read as: JSW Enterprises, LLC, d/b/a Nutravative Ingredients, 601 Century Parkway, Suite 200, Allen, TX 75013.

By order of the Commission.
Issued: March 19, 2019.
Katherine Hiner,
Acting Secretary to the Commission.

[FR Doc. 2019-05578 Filed 3-22-19; 8:45 am]

BILLING CODE 7020-02-P